ENVIRONMENTAL PROTECTION AGENCY

40 CFR Part 300

[EPA-HQ-SFUND-1990-0011; FRL-9916-84-Region 6]

National Oil and Hazardous Substances Pollution Contingency Plan; National Priorities List: Direct Deletion of the Monroe Auto Equipment (Paragould Pit) Superfund Site

AGENCY: Environmental Protection Agency.

ACTION: Final rule.

SUMMARY: The Environmental Protection Agency (EPA) Region 6 is publishing a final Notice of Deletion of the Monroe Auto Equipment (Paragould Pit) Superfund Site located in Paragould, Greene County, Arkansas, from the National Priorities List (NPL). The NPL, promulgated pursuant to section 105 of the Comprehensive Environmental Response, Compensation, and Liability Act (CERCLA) of 1980, as amended, is an appendix of the National Oil and Hazardous Substances Pollution Contingency Plan (NCP). This final deletion is being published by EPA with the concurrence of the State of Arkansas, through the Arkansas Department of Environmental Quality (ADEQ), because EPA has determined that all appropriate response actions under CERCLA have been completed. However, this deletion does not preclude future actions under Superfund.

DATES: This final deletion is effective September 29, 2014.

ADDRESSES: Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at: U.S. Environmental Protection Agency, Region 6; 1445 Ross Avenue, Suite 700; Dallas, Texas 75202-2733; hours of operation: Monday through Friday, 9:00 a.m. to 12:00 p.m. and 1:00 p.m. to 4:00 p.m. Contact: Brian W. Mueller (214) 665-7167.

Arkansas Department of Environmental Quality, 5301 Northshore Drive, North Little Rock, Arkansas 72118; Hours of Operation: Monday through Friday 8:00 a.m. until 4:30 p.m.

Northeast Arkansas Regional Library, located at 120 North 12th Street, Paragould, Arkansas 72450; Hours of operation: Monday through Thursday day 8:00 a.m. until 6:00 p.m., Friday 8:00 a.m. until 4:00 p.m., and Saturday 8:00 a.m. until 1:00 p.m.

FOR FURTHER INFORMATION CONTACT: Brian W. Mueller, Remedial Project Manager; U.S. Environmental Protection Agency, Region 6; Superfund Division (6SF-RL); 1445 Ross Avenue, Suite 1200; Dallas, Texas 75202-2733, (214) 665-7167; email:mueller.brian@epa.gov.

SUPPLEMENTARY INFORMATION:

Table of Contents

I. Introduction

II. Deletion Criteria

III. Deletion Procedures

IV. Basis for Site Deletion

V. Deletion Action

I. Introduction

EPA Region 6 is publishing this final Notice of Deletion of the Monroe Auto Pit. Superfund Site (Site), from the National Priorities List (NPL). The NPL constitutes Appendix B of 40 CFR Part 300 which is the Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remains eligible for Fund-financed remedial action if future conditions warrant such actions.

Because EPA considers this action to be noncontroversial and routine, this action will be effective September 29, 2014.

Section II of this document explains the criteria for deleting sites from the NPL. Section III discusses procedures that EPA is using for this action. Section IV discusses the Monroe Auto Pit Superfund Site and demonstrates how it meets the deletion criteria. Section V discusses EPA's action to delete the Site from the NPL.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to the deletion of the Site:

(1) EPA has consulted with the state of Arkansas prior to developing this direct final Notice of Deletion and the Notice of Intent for Deletion co-published in the “Proposed Rules” section of the Federal Register.

(2) EPA has provided the state 30 working days for review of this notice and the parallel Notice of Intent to Delete prior to their publication today, and the state, through the Arkansas Department of Environmental Quality, has concurred on this deletion of the Site from the NPL.

(3) Concurrently with the publication of this direct final Notice of Deletion, a notice of the availability of the parallel Notice of Intent for Deletion is being published in a major local newspaper, the Paragould Daily Press. The newspaper notice announces the 30-day public comment period concerning the Notice of Intent for Deletion of the Site from the NPL.

(4) The EPA placed copies of documents supporting the deletion in the deletion docket and made these items available for public inspection and copying at the Site information repositories identified above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Deletion

The following information provides EPA's rationale for deleting the Site from the NPL.

Site Background and History

The Monroe Auto Equipment (Paragould Pit) Superfund Site (CERCLIS ID ARD980864110) is located in northeastern Arkansas in an unincorporated portion of Greene County, approximately three miles southwest of Paragould, Arkansas. The site lies immediately west of Arkansas Highway 358, approximately three miles west of its intersection with U.S. Highway 49. The site lies in the Northwest Quarter of the Northeast Quarter of Section 17, Township 16 North, Range 5 East, in the Paragould West 7.5-minute quadrangle. The southwestern comer of the site is at latitude 36°01′0″ and longitude 90°34′30″. The site occupies seven (7) acres of a former sand and gravel borrow pit. The area is rural and lightly populated with private residences located immediately south, north, and northeast of the site.

Monroe Auto Equipment Company (now Tenneco Automotive, Inc.) purchased the described property for disposal of alum and lime electroplating sludge that originated from settling ponds used for the treatment of wastewater from Monroe Auto Equipment's Paragould manufacturing plant. The waste material was placed on the site from 1973 to 1978, resulting in over 10,000 cubic yards (CY) of sludge at the site in the sand and gravel pit. In July 1987, the EPA conducted a Site Assessment inspection to assess the potential for public exposure to contaminants being released from the site. Principal pollutants in groundwater identified by the EPA included solvents and degreasing agents such as 1,1-Dichloroethane (1,1-DCA), 1,2-Dichloroethene (1,2-DCE), Xylenes, and metals. As an interim action, Tenneco initiated sampling of private residential wells located within one-half mile of the site beginning in July 1987. The EPA proposed that the Site be added to the National Priorities List (NPL) on October 26, 1989 and was finalized to the NPL on August 30, 1990. On-site monitoring wells and a private drinking water well 300 feet southeast (down-gradient) of the pit are contaminated with 1,1-dichloroethane and 1,2-DCE according to tests conducted in 1987-88 by the Arkansas Department of Health and a Monroe consultant. The consultant also found arsenic, nickel, and lead in the monitoring wells. An estimated 2,100 people obtain drinking water from private wells within 3 miles of the site.

Remedial Investigation and Feasibility Study

A Potentially Responsible Party (PRP) search conducted in 1990 under CERCLA Section 104 (e) 42 U.S.C. 9604(e), indicated that Monroe Auto Equipment (Paragould Pit) was the only PRP for the site. On March 14, 1991, the EPA issued notice of an impending Remedial Investigation and Feasibility Study (RI/FS) to the PRP. Monroe Auto Equipment (Paragould Pit), now Tenneco, responded to the notice with a good faith offer to perform the RI/FS. On June 28, 1991, Monroe Auto Equipment Company entered into an Administrative Order on Consent with the EPA to conduct a RI/FS under CERCLA. The RI was completed in August 1993, and the FS was completed in April 1995. The RI/FS identified the types, quantities, and locations of contaminants found at the Site and developed ways to address the contamination. A Human Health Risk Assessment and an Ecological Risk Assessment were performed to determine the current and future effects of contaminants on human health and the environment.

Remedial Action Objectives

Remedial Action Objectives (RAOs) were developed for Site to address the contaminated soils and ground water.

Soil/Sludge

• Prevent exposure to current and future human and ecological receptors through ingestion, dermal contact, and inhalation of contaminated soil/sludge containing trichloroethylene, vinyl chloride, antimony, arsenic, beryllium, chromium VI, and lead.

Groundwater

• Prevent exposure to current and future human and ecological receptors through ingestion, dermal contact, and inhalation of contaminated groundwater containing cis-1,2-Dichloroethylene, trans-1,2-Dichloroethylene, bis(2-Ethylhexyl)phthalate, beryllium, chromium, lead, manganese.

In order to achieve these RAOs, numerical risk-based cleanup levels were established for each environmental medium based on the residential scenario.

Selected Remedy

A proposed plan for the Site was issued on July 17, 1995, presenting the preferred alternative of capping the sludge disposal area, installing a groundwater interception system (french drain), and addressing the groundwater contamination through natural attenuation, degradation and monitoring. On September 26, 1996, the Record of Decision (ROD) was issued and signed for the Site.

Remedy Modification

In February 1998, the ADPC&E (current ADEQ) signed a Consent Administrative Order directing Tenneco to conduct the Remedial Design/Remedial Action (RD/RA) under ADPC&E oversight presenting the preferred alternative of excavation and offsite disposal for the waste, contaminated soil, and contaminated sediment at the Site.

In 1999, Tenneco submitted a petition to modify the ROD to change the method of contaminated soil remediation from containment of the contaminated soil and sludge, to excavation and treatment as required by the Resource Conservation and Recovery Act for removal and disposal of contaminated soil and sludge in an off-site permitted secure Subtitle D disposal facility. The amended ROD was signed by the ADEQ on September 15, 2000, and by the EPA on November 9, 2000. The amendment to the ROD did not alter the Remedial Action Objectives established by the 1996 ROD, or the Applicable or Relevant and Appropriate Requirements listed in the 1996 ROD. The revised soil remedy did not alter the previous requirement of monitored natural attenuation of constituents in the groundwater. The new remedy was consistent with the statements and expressed wishes regarding remediation activities from nearby residents. By treatment and removal of the waste from the site, the site is available for future development. The amended soil or source remedy included: excavation of sludge and stained soils; verifying removal of impacted materials from the sludge disposal area; transporting and disposing of stained soil in a Subtitle D landfill; solidifying and stabilizing sludge material; stockpiling stabilized sludge; applying for de-listing of stabilized sludge and transporting and disposing of stabilized sludge in accordance with the results of the delisting petition.

The final remedy is detailed in the Remedial Design Submittal Quality Assurance Project Plan, Remedial Action Workplan, Remedial Design Submittal Sampling and Analysis Plan (SAP), and Remedial Design Submittal Health and Safety Plan. The final remedy represents the culmination of activities that resulted from the preliminary site investigation completed in 1988, the RI/FS, the ROD and Amended ROD.

Remedy Components

The remedy is comprised of the following major components as stipulated in the Remedial Action Workplan:

• Excavate, segregate and stage sludge, stained soils, and overburden (clean soil) and unstained soils;

• Stockpile overburden and unstained soils for use as backfill;

• Stabilize sludge material with 5 to 10 percent lime addition;

• Analyze stained soil and solidified sludge;

• Transport and dispose of stained soil that exhibits concentrations of constituents of concern (COC) below toxicity characteristic leaching procedure (TCLP) levels and EPA Region VI Medium Specific Health Based Screening Levels in a Subtitle D landfill;

• Stockpile stabilized sludge in an on-site lined containment cell;

• Apply for de-listing of stabilized sludge;

• Verify removal of impacted materials from the sludge pit through analytical testing of the bottom and sides of the excavation area;

• Restore the site by backfilling, grading and seeding;

• Transport and dispose of stabilized sludge in accordance with the results of the de-listing petition; and

• Conduct groundwater monitoring to ensure the effectiveness of the RA.

Response Actions

Tenneco began on-site Remedial Action construction in September 1999. The soil remedial action consisted of the excavation and segregation of 14,633 cubic yards of soil and started in September 1999. Based on field calculations, a total of 3,348 cubic yards of overburden (clean fill material), 8,553 cubic yards of stained soil and 2,732 yards of sludge (prior to stabilization and consolidation) were removed during the excavation activities.

The overburden was removed, stockpiled, sampled and confirmed to meet the RA goals for soil and used as backfill. In accordance with the SAP, one grab sample was collected for every 2,000 cubic yards of overburden, unstained soil or clean backfill. A total of 8,160 cubic yards of additional soil was imported for use as backfill, yielding a total of 11,508 yards of backfill used to replace the stained soil and sludge removed from the site. The site was recontoured to provide better drainage, enabling use of a smaller amount of soil required for backfill (11,508 cubic yards backfilled as compared to 14,633 cubic yards removed). A total of seven samples were collected from the overburden and imported backfill and confirmed the backfill material met the soil remedial clean-up requirements for the Site.

The 8,553 cubic yards of stained soil was stockpiled, sampled to confirm disposal in accordance with ADEQ requirements and disposed in two Subtitle D Landfills upon confirmation of soil constituent levels. In accordance with the SAP, at a minimum, one grab sample was collected for every 500 cubic yards of stained soil. A total of 26 samples were collected from the stained soil to confirm this material met the disposal requirements for the permitted landfill. The weigh tickets from the Subtitle D Landfills confirm the disposal of the 8,553 cubic yards or 14,599 tons (1.7 tons/cubic yard) of stained soil as part of the Soil RA. A total of 11,621 tons of stained soil was transported and disposed at the Butler County Landfill in Poplar Bluff, Missouri and 2,978 tons of stained soil were transported and disposed at the Waste Management-Two Pines Landfill in North Little Rock, Arkansas.

The 2,732 cubic yards of sludge removed was stabilized with approximately 241 tons of quicklime and stockpiled in an on-site lined containment cell. In accordance with the SAP, at a minimum, one grab sample was collected for every 500 cubic yards of stabilized sludge. A total of seven samples were collected from the stabilized sludge to provide the basis for preparation of a petition for de-listing of this material. The 2,723 cubic yards of sludge removed was based on field measurements prior to stabilization. Surveying of this material after stabilization and consolidation over several months after placement in the containment cell yielded a volume of 1,798 cubic yards. A De-listing Petition (Petition) was prepared by the PRP in August 2000. The Petition was approved by EPA and subsequently by the ADEQ in an August 27, 2001 letter entitled Exclusion of F006 Waste at the Tenneco/Monroe Facility from the Definition of Hazardous Waste. Upon approval of the Petition, the 1,798 cubic yards or 3,243 tons (1.8 tons/cubic yard) of stabilized sludge was transported and disposed of at the Waste Management-Two Pines Landfill in North Little Rock, Arkansas. The bottom and sidewalls of the sludge pit excavation were extended until the visually impacted material had been removed. Prior to the collection of verification samples, an additional 1-foot of material was removed and disposed as stained soil. In accordance with the SAP, a verification soil sample was collected for every 500 square feet of sidewall or floor. A total of 81 verification samples were collected which confirmed that the excavation activities met the RA Goals for Soil at the site. In accordance with oral field instructions by the EPA Remedial Project Manager (RPM), and later included in the amendment to the ROD, the PRP excavated all of the stained soil and sludge until levels were at or below the RA Goals for Soil at the site. The stained soil that had concentrations of the COCs below the TCLP levels and the EPA Region 6's Medium Specific Health Based Screening Levels was excavated and disposed in a Subtitle D Landfill. The final shipment of stained soil was on December 16, 1999. The contractor also stabilized all of the contaminated soil and sludge which exhibited contaminant levels above the TCLP levels. The final shipment of the stabilized material was on September 13, 2001. The final inspection was conducted on September 14, 2001, and the Preliminary Close Out Report was signed on September 19, 2001.

Demonstration That Remedial Activities Met Cleanup Criteria for Soils/Sludges

The soil/sludge remedial action at the Site consisted of the sampling, excavation, solidification, and proper disposal of contaminated soils/sludges. The EPA and ADEQ reviewed the remedial action report and the construction work for compliance with quality assurance and quality control (QA/QC) protocols. Construction activities at the Site were determined to be consistent with the ROD and ROD Amendment and adhered to the approved quality assurance plan which incorporated all EPA and State requirements. Confirmatory inspections, independent testing, audits, and evaluations of materials and workmanship were performed in accordance with the technical specifications and plans. The EPA Remedial Project Manager and State regulators visited the site during construction activities to review construction progress and evaluate and review the results of QA/QC activities. No deviations or non-adherence to QA/QC protocols, or specifications were identified.

The Remedial Design contained provisions for performing sampling during all remedial activities in order to verify that remedial objectives were met, to ensure quality control and assurance for all excavation and construction activity, and to ensure protection and safety of the public, the environment, and the onsite worker. Sampling was conducted in accordance with the Site Field Sampling Plan and all analytical results are below the established cleanup levels for a residential reuse scenario. In addition, all backfill confirmation sample results met the established cleanup levels for a residential reuse scenario. All analytical data was independently validated, and the EPA and the State determined that analytical results were accurate to the degree needed to assure satisfactory execution of the RA.

Groundwater Remedial Implementation History

Natural attenuation and monitoring was the remedy selected in the ROD to address the groundwater contamination on and offsite. The ROD amendment did not change the groundwater remedy. The ROD required the PRP to develop and implement a Groundwater Monitoring Plan (GMP) and beginning in September 2001, semiannual monitoring of eighteen (18) wells began. The PRP conducted groundwater monitoring events through March 2009. The PRP has discontinued monitoring groundwater at the Site.

The Groundwater Remedy portion of the September 26, 1996 ROD and the 2000 ROD Amendment included conducting long-term groundwater monitoring of wells at the Site and local private wells located in the vicinity of the Site. As part of the Groundwater Remedy, a Groundwater Monitoring Plan (GMP) was prepared for the Site. The GMP specified procedures to be followed for long-term groundwater monitoring to ensure compliance with the requirements of the ROD and the ROD Amendment. Tenneco initiated GMP activities in September 2001. The GMP also specified quality assurance and quality control (QA/QC) protocols for ground water sampling. The EPA Remedial Project Manager and State regulators visited the site during ground water monitoring activities to observe ground water sampling. ADEQ also took independent samples to that confirmed the results of the samples taken by the PRP. No deviations or non-adherence to QA/QC protocols, or specifications were identified.

Based on analysis of semi-annual groundwater sampling results since March 2001, a request was made and approved to reduce the number of groundwater monitoring wells and COCs included in the Site GMP. The requested revised GMP focused only on volatile organic chemicals (VOCs) at six select groundwater monitoring well locations. A request to remove the requirements for sampling of the private wells was submitted to EPA and ADEQ on March 31, 2002. The request was approved following submittal of the Private Well Report in 2004. The Private Well Report provided a summary of available information for each of the twenty-nine (29) wells and presented a comparative analysis of the analytical results from over ten (10) years of sampling the private wells relative to the maximum contaminant levels (MCLs). Based on the findings presented in the report, no VOCs were detected in any of the private wells above the MCLs over the past ten (10) years. Select inorganics, primarily lead, were detected at varying concentrations, periodically exceeding the respective MCL in select samples collected prior to 1996. These detections of lead however were within background concentration levels for the surrounding area and not believed to have resulted from contamination at the site. Based on the data review presented in the Private Well Report, none of the private wells located within one-half mile of the site have been impacted by contamination from the site.

The results of the semi-annual/annual sampling events are presented in respective Semi-Annual/Annual Sampling Reports. Based on the most recent groundwater sampling results from the site groundwater monitoring wells, presented in the March 2009 Comprehensive Summary Report Annual Groundwater Sampling Event for the Monroe Superfund Site, the concentrations of VOCs continue to remain below the remedial goals for the Site in all of the groundwater monitoring wells sampled with the approved groundwater monitoring program. The concentrations in all of the Site groundwater monitoring wells have continued to exhibit concentrations of VOCs below the remedial goals established in the ROD over the past eight semi-annual and two annual sampling events. The results of the groundwater monitoring since July 2003 confirm the effectiveness of the completed soil remedy and demonstrates site RA goals for groundwater are maintained through natural degradation and attenuation.

Operation and Maintenance

The ROD specified monitored natural attenuation as the remedy for ground water remediation based on implementation of a containment onsite of contaminated soils. The soil remedy was modified in the ROD Amendment to include removal of stained soil and sludge from the site to below the Site RA Goals for Soil. The results of groundwater monitoring since removal of the stained soil and sludge demonstrate that the natural attenuation remedy was effective and that the remedial goals for the groundwater as stated in the ROD have been achieved. Groundwater monitoring at the Site was discontinued after the Second Five Year Review in 2009. The monitoring wells were properly plugged and abandoned in 2010. There are no operation and maintenance activities required at the Site.

Institutional Controls

The ROD required that restrictions on the use of ground water be placed on the Site. A deed notice/covenant identifying restrictions on the Site was filed by the PRP with the Greene County Clerk in November 2003. The covenant prohibited the installation of any private, commercial, industrial or other water well or other device for the removal or extraction of subsurface water. The only ground water allowed to be extracted from beneath the property is for the purpose or purposes associated with environmental sampling and testing of the property. The RA goals for the groundwater have been met and the monitor wells have been removed. No restrictions on the use or sale of the property are necessary and the existing restrictions may be removed by the PRP.

Five-Year Review

Five-Year Reviews were statutorily required because hazardous substances, pollutants, or contaminants remained at the Site above levels that allow for unlimited use and unrestricted exposure. There have been two five-year reviews conducted at the Site, with the last one in 2009. The United States Environmental Protection Agency (EPA) Region 6 and the ADEQ conducted the second five-year review for the response action implemented at the Monroe Auto Pit Superfund Site. Also participating in the five-year inspection were representatives of Tenneco.

The 2009 Five Year Review found that all hazardous substances in the groundwater had naturally attenuated at the Site below clean up levels. The remedial action of natural attenuation for the groundwater is completed and no hazardous substances, pollutants or contaminants remain above levels that could prevent unlimited use and unrestricted exposure. Per the 2009 Five Year Review, unlimited use and unrestricted exposure has been achieved: therefore, additional Five Year Reviews will not be required for the Site after its deletion from the NPL.

Community Involvement

Public participation activities have been satisfied as required in CERCLA Section 113(k), 42 U.S.C. 9613(k) and CERCLA Section 117, 42 U.S.C. 9617. Throughout the Site's history, the community has been interested and involved with Site activity. The EPA has kept the community and other interested parties updated on Site activities through informational meetings, fact sheets, and public meetings. Documents in the deletion docket which the EPA relied on for recommendation for the deletion from the NPL are available to the public in the information repositories, and a notice of availability of the Notice of Intent for Deletion has been published in the Paragould Daily Press to satisfy public participation procedures required by 40 CFR 300.425(e)(4).

Determination That the Criteria for Deletion Have Been Met

The implemented remedy achieves the degree of cleanup specified in the ROD and ROD Amendment for all pathways of exposure. All selected remedial action objectives and clean-up goals are consistent with agency policy and guidance. No further Superfund responses are needed to protect human health and the environment at the Site.

In accordance with 40 CFR 300.425(e), sites may be deleted from the NPL where no further response is appropriate

V. Deletion Action

The EPA, with concurrence of the State of Arkansas, through the ADEQ, has determined that all appropriate response actions under CERCLA have been completed. Therefore, EPA is deleting the Site from the NPL.

Because EPA considers this action to be noncontroversial and routine, EPA is taking it without prior publication. This action will be effective September 29, 2014.

List of Subjects in 40 CFR Part 300

Environmental protection, Air pollution control, Chemicals, Hazardous waste, Hazardous substances, Intergovernmental relations, Penalties, Reporting and recordkeeping requirements, Superfund, Water pollution control, Water supply.

Dated: August 6, 2014.
James McDonald,
Acting Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to Part 300 is amended by removing the entry “AR”, “Monroe Auto Equipment (Paragould Pit)”, “Paragould”

[FR Doc. 2014-22638 Filed 9-24-14; 8:45 am]

BILLING CODE 6560-50-P